DEPARTMENT OF COMMERCE

International Trade Administration

[A-570-979]

Crystalline Silicon Photovoltaic Cells, Whether or Not Assembled Into Modules, From the People's Republic of China: Final Results of Antidumping Duty Administrative Review and Final Determination of No Shipments; 2018-2019; Correction

AGENCY: Enforcement and Compliance, International Trade Administration, Department of Commerce.

ACTION: Notice; correction.

SUMMARY: The Department of Commerce (Commerce) published a notice in the Federal Register of October 25, 2021, in which Commerce announced the final results of the 2018-2019 administrative review of the antidumping duty (AD) order on certain crystalline silicon photovoltaic cells, whether or not assembled into modules, from the People's Republic of China (China). This notice inadvertently omitted Wuxi Suntech Power Co., Ltd/Luoyang Suntech Power Co., Ltd. from the list of companies with no shipments of subject merchandise to the United States during the period of review (POR).

FOR FURTHER INFORMATION CONTACT: Jeff Pedersen, AD/CVD Operations, Office IV, Enforcement and Compliance, International Trade Administration, U.S. Department of Commerce, 1401 Constitution Avenue NW, Washington, DC 20230; telephone: (202) 482-2769.

SUPPLEMENTARY INFORMATION:

Correction

In the Federal Register of October 25, 2021, in FR Doc 2021- 23181, on page 58872, in the first column, correct the sentence under the caption “Final Determination of No Shipments” by replacing the portion of the sentence after the last semicolon, which currently reads: “and (3) Shanghai BYD Co., Ltd” with “(3) Shanghai BYD Co., Ltd.; and (4) Wuxi Suntech Power Co., Ltd/Luoyang Suntech Power Co., Ltd.”

Background

On October 25, 2021, Commerce published in the Federal Register the final results of the 2018-2019 administrative review of the AD order on certain crystalline silicon photovoltaic cells, whether or not assembled into modules, from China.¹ Commerce inadvertently omitted Wuxi Suntech Power Co., Ltd/Luoyang Suntech Power Co., Ltd. from the list of companies that did not ship subject merchandise to the United States during the POR.² We hereby notify the public that in the final results of 2018-2019 administrative review of the AD order on certain crystalline silicon photovoltaic cells, whether or not assembled into modules from China, Commerce continued to find that, during the POR, there were no entries of subject merchandise into the United States from, or exports or sales of subject merchandise to the United States by, Wuxi Suntech Power Co., Ltd/Luoyang Suntech Power Co., Ltd.³ Therefore, Wuxi Suntech Power Co., Ltd/Luoyang Suntech Power Co., Ltd. should be included in the list of companies that did not ship subject merchandise to the United States during the POR.

¹ See Crystalline Silicon Photovoltaic Cells, Whether or Not Assembled Into Modules, from the People's Republic of China: Final Results of Antidumping Duty Administrative Review and Final Determination of No Shipments; 2018-2019, 86 FR 58871 (October 25, 2021).

² See Crystalline Silicon Photovoltaic Cells, Whether or Not Assembled Into Modules, from the People's Republic of China: Preliminary Results of Antidumping Duty Administrative Review, Partial Rescission of Antidumping Administrative Review, and Preliminary Determination of No Shipments; 2018-2019, 86 FR 21277 (April 22, 2021), and accompanying Preliminary Decision Memorandum at 5.

³ Id.

Notification to Interested Parties

This notice is issued and published in accordance with sections 751(a)(1) and 777(i)(1) of the Tariff Act of 1930, as amended, and 19 CFR 351.221(b)(5).

Dated: January 27, 2022.
Lisa W. Wang,
Assistant Secretary for Enforcement and Compliance.

[FR Doc. 2022-02106 Filed 2-1-22; 8:45 am]

BILLING CODE 3510-DS-P